DEPARTMENT OF TRANSPORTATION

Federal Aviation Administration

Newark Liberty International Airport Slots; Request for Bids

AGENCY: Federal Aviation Administration (FAA), DOT.

ACTION: Notice of availability.

SUMMARY: The FAA plans to auction a lease for a package of slots at Newark Liberty International Airport on September 3, 2008. If you are interested in participating in the auction, commenting on the planned auction procedures or draft lease terms, you will be able to find additional information and procedures for providing comments at http://faaco.faa.gov.

FOR FURTHER INFORMATION CONTACT: Mr. Jeffrey Wharff, Federal Aviation Administration, Office of Aviation Policy and Plans, 800 Independence Avenue, SW., Washington, DC 20591; telephone: 202 267-3274; His e-mail is Jeffrey.Wharff@FAA.gov.

Issued in Washington, DC, on August 5, 2008.
Nan Shellabarger,
Acting Deputy Assistant Administrator for Policy, Planning, and Environment.

[FR Doc. E8-18356 Filed 8-6-08; 8:45 am]

BILLING CODE 4910-13-P